DEPARTMENT OF THE INTERIOR

Bureau of Land Management

[ID-933-1430-ET; IDI-31741]

Public Land Order No. 7747; Partial Revocation, Juniper Butte Range; Idaho

AGENCY: Bureau of Land Management, Interior.

ACTION: Public Land Order.

SUMMARY: This order revokes a withdrawal created by a Public Law insofar as it affects a 5-acre parcel of land reserved on behalf of the United States Air Force in Owyhee County, Idaho for the Juniper Butte Range. This order also opens the land to all forms of appropriation under the general land laws, including the mining, mineral, and geothermal leasing laws.

DATES: Effective Date: July 28, 2010.

FOR FURTHER INFORMATION CONTACT: Cathie Foster, Bureau of Land Management, Idaho State Office, 1387 South Vinnell Way, Boise, Idaho 83709, 208-373-3863.

SUPPLEMENTARY INFORMATION: The land included in this revocation was withdrawn on behalf of the United States Air Force as part of the Juniper Butte Range under Public Law 105-261. The parcel of land described in this order, designated as ND-8, was never used by the United States Air Force, and they have determined that the withdrawal is no longer needed on this portion.

Order

By virtue of the authority vested in the Secretary of the Interior by Section 204 of the Federal Land Policy and Management Act of 1976, 43 U.S.C. 1714, and Section 2915(b)(3) of the Juniper Butte Range Withdrawal Act, 112 Stat. 2226, 2232, it is ordered as follows:

1. The withdrawal created by Public Law 105-261 (112 Stat. 2226) dated October 17, 1998, which withdrew land on behalf of the United States Air Force for the Juniper Butte Range, is hereby revoked insofar as it affects the following described land:

Boise Meridian

T. 13 S., R. 4 E.,

Sec. 13, lot 1.

The area described contains 5 acres, more or less, in Owyhee County.

2. At 9 a.m., on August 27, 2010, the land described in Paragraph 1 will be opened to all forms of appropriation under the general land laws, including the mining, mineral, and geothermal leasing laws, subject to valid existing rights, the provisions of existing withdrawals, other segregations of record, and the requirements of applicable law. All valid applications received at or prior to 9 a.m. shall be considered as simultaneously filed at that time. Those received thereafter shall be considered in the order of filing.

Dated: July 15, 2010.
Wilma A. Lewis,
Assistant Secretary—Land and Minerals Management.

[FR Doc. 2010-18470 Filed 7-27-10; 8:45 am]

BILLING CODE 4310-GG-P